DEPARTMENT OF TRANSPORTATION

Federal Aviation Administration

14 CFR Part 71

[Docket No. FAA-2003-15460; Airspace Docket No. 03-ACE-58]

Modification of Class E Airspace; Aurora, MO

AGENCY: Federal Aviation Administration, (FAA), DOT.

ACTION: Direct final rule; request for comments; correction.

SUMMARY: This action corrects a direct final rule; request for comments that was published in the Federal Register on Tuesday, July 29, 2003, (68 FR 44454) [FR Doc. 03-19165]. It corrects an error in the direction of the Aurora, MO Class airspace area extension.

DATES: This direct final rule is effective on 0901 UTC, October 30, 2003.

FOR FURTHER INFORMATION CONTACT: Brenda Mumper, Air Traffic Division, Airspace Branch, ACE-520A, DOT Regional Headquarters Building, Federal Aviation Administration, 901 Locust, Kansas City, MO 64106; telephone: (816) 329-2514.

SUPPLEMENTARY INFORMATION:

History

Federal Register Document 03-19165, published on Tuesday, July 29, 2003, (68 FR 44454) modified Class E airspace at Aurora, MO. The modification was to replace Aurora Memorial Municipal Airport'' in the legal descriptions of Aurora, MO Class E airspace area with “Jerry Summers Sr. Aurora Municipal Airport” and to bring the legal description into compliance with FAA Order 7400.2E, Procedures for Handling Airspace Matters. The Aurora, MO Class E airspace area was erroneously described as extending north of the airport when it actually extends south of the airport.

Accordingly, pursuant to the authority delegated to me, the Aurora, MO Class E airspace, as published in the Federal Register on Tuesday, July 29, 2003, (68 FR 44454), [FR Doc. 03-19165] is corrected as follows:

§ 71.1 [Corrected]

On page 44454, Column 3, paragraph headed ACE MO E5 Aurora, MO,'' last line, change “miles north of the airport” to read “miles south of the airport.”

Issued in Kansas City, MO, on July 31, 2003.
Paul J. Sheridan,
Acting Manager, Air Traffic Division, Central Region.

[FR Doc. 03-21078 Filed 8-15-03; 8:45 am]

BILLING CODE 4910-13-M